DEPARTMENT OF DEFENSE

Department of the Navy

Notice of Intent To Grant Exclusive Patent License; Premium Manufacturing Group

AGENCY: Department of the Navy, DoD.

ACTION: Notice.

SUMMARY: The Department of the Navy hereby gives notice of its intent to grant to Premium Manufacturing Group a revocable, nonassignable, exclusive license to practice in the field of use of a knife and knife components in the United States, the Government-owned inventions described in U.S. Patent No. 7,421,751 entitled “Folding Knife Having Locking Portion, Clip Portion and Unsharpened Protrusion”, Navy Case No. 097,793 and any continuations, divisionals or re-issues thereof.

DATES: Anyone wishing to object to the granting of this license must file written objections along with supporting evidence, if any, not later than April 9, 2015.

ADDRESSES: Written objections are to be filed with the U.S. Naval Academy, Academic Dean and Provost Office, 589 McNair Road, Stop 10G, Annapolis, MD 21402 (attn: Prof. J. E. Shade).

FOR FURTHER INFORMATION CONTACT: Prof. J. E. Shade, Associate Director of Research and Scholarship for Technology Transfer, Academic Dean and Provost Office, 589 McNair Road, Stop 10G, Annapolis, MD 21402, office: 410-293-2509. Due to U.S. Postal delays, please fax 410-293-2507 and send email to shade@usna.edu. Use courier delivery to expedite response.

Authority: 35 U.S.C. 207, 37 CFR part 404.

N. A. Hagerty-Ford,
Commander, Office of the Judge Advocate General, U.S. Navy, Federal Register Liaison Officer.

[FR Doc. 2015-06788 Filed 3-24-15; 8:45 am]

BILLING CODE 3810-FF-P